DEPARTMENT OF TRANSPORTATION

National Highway Traffic Safety Administration

[U.S. DOT Docket Number NHTSA-2011-0126]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before March 3, 2015.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue SE., W52-232, NPO-520, Washington, DC 20590. Ms. Hong's telephone number is (202) 493-0524 and email address is kil-jae.hong@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: 49 CFR 575—Consumer Information Regulations (sections 103 and 105) Quantitative Research.

OMB Control Number: Not Assigned.

Form Number: None.

Affected Public: Passenger vehicle consumers.

Requested Expiration Date of Approval: Three years from approval date.

Abstract: The Energy Independence and Security Act of 2007 (EISA), enacted in December 2007, included a requirement that the National Highway Traffic Safety Administration (NHTSA) develop a consumer information and education campaign to improve consumer understanding of automobile performance with regard to fuel economy, greenhouse gas (GHG) emissions and other pollutant emissions; of automobile use of alternative fuels; and of thermal management technologies used on automobiles to save fuel. In order to effectively achieve the objectives of the consumer education program and fulfill its statutory obligations, NHTSA proposed a multi-phased research project to gather the data and apply analyses and results from the project to develop the consumer information program and education campaign. NHTSA has conducted qualitative and quantitative rounds of research with consumers to assess current levels of knowledge surrounding these issues, explore current available fuel economy-related content for clarity and understanding, evaluate potential consumer-facing messages and their potential to encourage consumers to seek more fuel economy-related information from NHTSA, and explore communications channels in which these messages should be present. The research allowed NHTSA to refine the fuel economy-related content and consumer-facing messaging that will be used throughout the consumer education campaign by identifying what relevant issues consumers care more about, within the context of the statutory requirements that NHTSA must inform consumers regarding, and what information they still need to make more informed purchases and driver behavior decisions. These communications materials were then tested in a qualitative round of focus groups to gauge which materials resonated with consumers when it came to messaging on issues including fuel economy versus fuel efficiency, alternative fuels, and greenhouse gases and other emissions.

Estimated Annual Burden: 666.67 hours.

Number of Respondents: 2,000.

NHTSA proposed to conduct two research phases to support creation of communications materials for a consumer education program. For the first phase, NHTSA conducted one type of qualitative research consisting of two (2) focus groups in each of three (3) cities. The results of that research phase were used to inform the quantitative phase of research which this notice addresses. This quantitative research will consist of an online survey that will require approximately 20 minutes for each respondent to complete, and will require 2,000 participants. NHTSA plans to administer this study one (1) time.

The estimated annual burden hours for the second phase of research is 667.67 hours (.333 hours × 2,000 participants). Based on the Bureau of Labor and Statistics' median hourly wage (all occupations) in the May 2010 National Occupational Employment and Wage Estimates, NHTSA estimates that it will take an average of $16.87 per hour for professional and clerical staff to gather data, develop and distribute material. Therefore, the agency estimates that the cost associated with the burden hours is $11,246.67 ($16.87 per hour × 666.67 burden hours).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Public Participation: Your comments must be written and in English. To ensure that your comments are correctly filed in the docket, please include the Docket Number NHTSA-2011-0126 in your comments. Your comments must not be more than 15 pages long.¹ NHTSA established this limit to encourage you to write your primary comments in a concise fashion. However, you may attach necessary additional documents to your comments. There is no limit on the length of the attachments. If you are submitting comments electronically as a PDF (Adobe) file, we ask that the documents submitted be scanned using the Optical Character Recognition (OCR) process, thus allowing the agency to search and copy certain portions of your submissions.² Please note that pursuant to the Data Quality Act, in order for the substantive data to be relied upon and used by NHTSA, it must meet the information quality standards set forth in the OMB and Department of Transportation (DOT) Data Quality Act guidelines. Accordingly, we encourage you to consult the guidelines in preparing your comments. OMB's guidelines may be accessed at http://www.whitehouse.gov/omb/fedreg_reproducible (last accessed June 2, 2010), and DOT's guidelines may be accessed at http://regs.dot.gov (last accessed June 22, 2010).

¹ 49 CFR 553.21.

² Optical character recognition (OCR) is the process of converting an image of text, such as a scanned paper document or electronic fax file, into computer-editable text.

How do I submit confidential business information?

If you wish to submit any information under a claim of confidentiality, you should submit three copies of your complete submission, including the information you claim to be confidential business information, to the Chief Counsel, NHTSA, at the address given above under FOR FURTHER INFORMATION CONTACT. When you send a comment containing confidential business information, you should include a cover letter setting forth the information specified in our confidential business information regulation.³

³ 49 CFR part 512.

Will NHTSA consider late comments?

NHTSA will consider all comments received before the close of business on the comment closing date indicated above under DATES. To the extent practicable, we will also consider comments received after that date. If interested persons believe that any new information the agency places in the docket affects their comments, they may submit comments after the closing date concerning how the agency should consider that information. If a comment is received too late for us to practicably consider it in developing a final rule, we will consider that comment as an informal suggestion for future rulemaking action.

How can I read the comments submitted by other people?

You may read the materials placed in the docket for this document (e.g., the comments submitted in response to this document by other interested persons) at any time by going to http://www.regulations.gov. Follow the online instructions for accessing the dockets.

You may also read the materials at the NHTSA Docket Management Facility by going to the street addresses given above under ADDRESSES.

John Donaldson,
Acting Senior Associate Administrator, Policy and Operations.

[FR Doc. 2014-30728 Filed 12-31-14; 8:45 am]

BILLING CODE 4910-59-P